DEPARTMENT OF JUSTICE

Antitrust Division

Notice Pursuant to the National Cooperative Research and Production Act of 1993—Silicon Integration Initiative, Inc.

Notice is hereby given that, on July 24, 2024, pursuant to section 6(a) of the National Cooperative Research and Production Act of 1993, 15 U.S.C. 4301 et seq. (“the Act”), Silicon Integration Initiative, Inc. (“Si2”) has filed written notifications simultaneously with the Attorney General and the Federal Trade Commission disclosing changes in its membership. The notifications were filed for the purpose of extending the Act's provisions limiting the recovery of antitrust plaintiffs to actual damages under specified circumstances. Specifically, Vaire Computing Ltd, London, UNITED KINGDOM; Simple EDA Global Services OÜ, Aaspere, ESTONIA; Moore Threads Inc., San Diego, CA; Enable Design System, Inc., Seoul, REPUBLIC OF KOREA; and D2S, Inc., San Jose, CA, have been added as parties to this venture.

Also, Intento Design S.A.S, Paris, FRANCE; United Semiconductor Japan Co., Ltd, Yokohama, JAPAN; Raon Solution, Ochang-eup, REPUBLIC OF KOREA; Silicon Technologies Inc., Midvale, UT; Semiconductor Components Industries, LLC, DBA ON Semiconductor Corporation (onsemi), Phoenix, AZ; and Raytheon Company, Plano, TX, have withdrawn as parties to this venture.

Additionally, the following members have changed their names: Analog Rails, Tempe, AZ, to Western Semiconductor; HW21, San Francisco, CA, to Generation Alpha (GenAlpha).

Finally, Cadence Design Systems, Inc., Bracknell, UNITED KINGDOM, has purchased Pulsic, Ltd.

No other changes have been made in either the membership or planned activity of the group research project. Membership in this group research project remains open, and Si2 intends to file additional written notifications disclosing all changes in membership.

On December 30, 1988, Si2 filed its original notification pursuant to section 6(a) of the Act. The Department of Justice published a notice in the Federal Register pursuant to section 6(b) of the Act on March 13, 1989 (54 FR 10456).

The last notification was filed with the Department on July 19, 2023. A notice was published in the Federal Register pursuant to section 6(b) of the Act on October 5, 2023 (88 FR 69234).

Suzanne Morris,
Deputy Director Civil Enforcement Operations, Antitrust Division.

[FR Doc. 2024-23614 Filed 10-10-24; 8:45 am]

BILLING CODE 4410-11-P